DEPARTMENT OF TRANSPORTATION

Surface Transportation Board

[STB Finance Docket No. 33958]

The Burlington Northern and Santa Fe Railway Company—Trackage Rights Exemption—Illinois Central Railroad Company and Grand Trunk Western Railroad Company

Illinois Central Railroad Company (IC) and Grand Trunk Western Railroad Company (GTW) have agreed to grant limited overhead trackage rights to The Burlington Northern and Santa Fe Railway Company (BNSF) between: (1) A point near GTW's milepost 8.6 near 49th Street and Central Park in Chicago, IL, where GTW and BNSF connect, and a point near GTW's milepost 23.2 near 154th Street and Lathrop in Harvey, IL, to a point near IC's milepost 22 near IC's Harvey Yard, a distance of approximately 16.6 miles; (2) a point near IC's milepost 8.3 (Belt Crossing), where IC and the Belt Railway Company of Chicago connect in Chicago, IL, and a point near IC's milepost 22 at IC's Harvey Yard, a distance of approximately 27.3 miles; and (3) a point near IC's milepost 2.3, where IC and BNSF connect on the West end of the St. Charles Airline Bridge and milepost 22 at IC's Harvey Yard, a distance of approximately 21 miles. The total amount of trackage involved is approximately 64.9 miles.

The transaction is scheduled to be consummated on November 15, 2000.¹

¹ Pursuant to 49 CFR 1180.4(g), a railroad must file a verified notice with the Board at least 7 days before the trackage rights are to be consummated. In its verified notice, BNSF indicated that it proposed to consummate the transaction on or about November 14, 2000. Because the verified notice was filed on November 8, 2000, consummation could not take place until November 15, 2000, at the earliest. BNSF's representative has been contacted and has confirmed that the consummation could not take place before November 15, 2000.

The purpose of the trackage rights is to allow BNSF to deliver or receive RoadRailer equipment in interchange to and from IC, GTW and Canadian National Railway Company, and to make available RoadRailer equipment available for BNSF customers at IC's Harvey Yard.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 33958 must be filed with the Surface Transportation Board, Office of the Secretary, Case Control Unit, 1925 K Street, NW., Washington, DC 20423-0001. In addition, one copy of each pleading must be served on Michael E. Roper, The Burlington Northern and Santa Fe Railway Company, 2500 Lou Menk Drive, P.O. Box 961039, Fort Worth, TX 76161-0039.

Board decisions and notices are available on our website at WWW.STB.DOT.GOV.

Decided: November 14, 2000.
By the Board, David M. Konschnik, Director, Office of Proceedings.
Vernon A. Williams,
Secretary.

[FR Doc. 00-29611 Filed 11-20-00; 8:45 am]

BILLING CODE 4915-00-P